DEPARTMENT OF TRANSPORTATION

Federal Aviation Administration

14 CFR Part 71

[Docket No. FAA-2005-20246; Airspace Docket No. 04-ASO-15]

RIN 2120-AA66

Proposed Establishment of Area Navigation Instrument Flight Rules Terminal Transition Routes (RITTR); Charlotte, NC

AGENCY: Federal Aviation Administration (FAA), DOT.

ACTION: Notice of proposed rulemaking (NPRM).

SUMMARY: This action proposes to establish four Area Navigation (RNAV) Instrument Flight Rules (IFR) Terminal Transition Routes (RITTR) in the Charlotte, NC, terminal area. RITTR's are low altitude Air Traffic Service (ATS) routes, based on RNAV, for use by aircraft having IFR-approved Global Positioning System (GPS)/Global Navigation Satellite System (GNSS) equipment. The purpose of RITTR is to expedite the handling of IFR overflight traffic through busy terminal airspace areas. The FAA is proposing this action to enhance safety and to improve the efficient use of the navigable airspace in the Charlotte, NC, terminal area.

DATES: Comments must be received on or before April 18, 2005.

ADDRESSES: Send comments on this proposal to the Docket Management System, U.S. Department of Transportation, Room Plaza 401, 400 Seventh Street, SW., Washington, DC 20590-0001. You must identify FAA Docket No. FAA-2005-20246 and Airspace Docket No. 04-ASO-15, at the beginning of your comments. You may also submit comments through the Internet at http://dms.dot.gov.

FOR FURTHER INFORMATION CONTACT: Paul Gallant, Airspace and Rules, Office of System Operations and Safety, Federal Aviation Administration, 800 Independence Avenue, SW., Washington, DC 20591; telephone: (202) 267-8783.

SUPPLEMENTARY INFORMATION:

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2005-20246 and Airspace Docket No. 04-ASO-15) and be submitted in triplicate to the Docket Management System (see ADDRESSES section for address and phone number). You may also submit comments through the Internet at http://dms.dot.gov.

Commenters wishing the FAA to acknowledge receipt of their comments on this action must submit with those comments a self-addressed, stamped postcard on which the following statement is made: “Comments to FAA Docket No. FAA-2005-20246 and Airspace Docket No. 04-ASO-15.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRM's

An electronic copy of this document may be downloaded through the Internet at http://dms.dot.gov. Recently published rulemaking documents can also be accessed through the FAA's Web page at http://www.faa.gov, or the Federal Register's Web page at http://www.gpoaccess.gov/fr/index.html.

You may review the public docket containing the proposal, any comments received, and any final disposition in person in the Dockets Office (see ADDRESSES section for address and phone number) between 9 a.m. and 5 p.m., Monday through Friday, except Federal holidays. An informal docket may also be examined during normal business hours at the office of the Regional Air Traffic Division, Federal Aviation Administration, 1701 Columbia Avenue, College Park, GA 30337.

Persons interested in being placed on a mailing list for future NPRM's should contact the FAA's Office of Rulemaking, (202) 267-9677, for a copy of Advisory Circular No. 11-2A, Notice of Proposed Rulemaking Distribution System, which describes the application procedure.

Background

In March 2000, the Aircraft Owners and Pilots Association (AOPA) requested that the FAA take action to develop and chart IFR RNAV airways for use by aircraft having IFR-approved Global Positioning System (GPS) equipment. Of particular interest was the use of RNAV to assist IFR pilots transiting though busy terminal airspace areas. Due to the density of air traffic in some areas, en route aircraft are not always able to fly on the existing Federal airway structure when transiting congested terminal airspace. In such cases, air traffic control (ATC) is often required to provide radar vectors to reroute aircraft transitioning through the area to avoid the heavy flow of arriving and departing aircraft. AOPA stated that RNAV airways would facilitate more direct routings than are possible with the current Federal airway system and would provide pilots with easier access through terminal airspace. In addition, AOPA promoted the expanded use of RNAV airways throughout the National Airspace System (NAS) to exploit the benefits and capabilities of RNAV.

In response to the AOPA request, a cooperative effort was launched involving the FAA, AOPA, and the Government/Industry Aeronautical Charting Forum. This effort began with the development of RNAV routes to provide more direct routing for en route IFR aircraft to transition through busy terminal airspace areas. The first step in this effort was the development of 12 IFR transition routes to expedite the handling of IFR overflight traffic through the Charlotte/Douglas International Airport, NC, Class B airspace area. The Charlotte IFR Transition routes became effective on January 30, 2001, and are currently published in the Southeast U.S. volume of the Airport/Facility Directory (A/FD). The action proposed in this notice represents the next step in this effort. Specifically, the development of charted RITTR's to replace the Charlotte transition routes described above. These proposed RITTR's would be depicted on the appropriate low altitude IFR en route charts in lieu of publication in the A/FD.

In the future, the FAA plans to propose RITTR's at additional busy terminal areas where it is expected that they would enhance the safety and efficient use of the navigable airspace.

RITTR Objective

The objective of the RITTR program is to enhance the expeditious movement of IFR overflight traffic around or through congested terminal airspace using IFR-approved RNAV equipment. RITTR's would enhance the ability of pilots to navigate through the area without reliance on ground-based navigation aids or ATC radar vectors. To facilitate this goal, and reduce ATC workload, RITTR routes are designed based on both the radar vector tracks routinely used by ATC to radar vector aircraft through or around the affected terminal area, and on existing VOR Federal airways. The routes would begin and terminate at fixes or NAVAIDs located along existing VOR Federal airways in order to provide connectivity with the low-altitude en route structure. Initially, only Global Navigation Satellite System (GNSS)-equipped aircraft that are capable of filing flight plan equipment suffix “/G” would be able to use RITTR's.

RITTR Identification and Charting

RITTR routes would be identified by the letter “T” prefix followed by a three digit number. The “T” prefix is one of several International Civil Aviation Organization (ICAO) designators used to identify domestic RNAV routes. The FAA has been allocated the letter “T” prefix and the number block 200 to 500 for use in naming these routes. The FAA would use the “T” prefix for RNAV routes in the low altitude en route structure of the NAS, including RITTR.

RITTR's would be depicted in blue on the appropriate IFR en route low altitude chart(s). Each route depiction would include a Global Navigation Satellite System (GNSS) Minimum Enroute Altitude (MEA) to ensure obstacle clearance and communications reception. The FAA plans to publish information about the RITTR program in the Aeronautical Information Manual (AIM) and the Notices to Airmen Publication (NTAP). In addition, a Charting Notice would be issued by the FAA's National Aeronautical Charting Office to explain the charting changes associated with the RITTR's.

Related Rulemaking

On April 8, 2003, the FAA published the Designation of Class A, B, C, D, and E Airspace Areas; Air Traffic Service Routes, and Reporting Points rule in the Federal Register (68 FR 16943). This rule adopted certain amendments proposed in Notice No. 02-20, RNAV and Miscellaneous Amendments. The rule revised and adopted several definitions in FAA regulations including Air Traffic Service Routes, to be in concert with ICAO definitions; and reorganized the structure of FAA regulations concerning the designation of Class A, B, C, D, and E airspace areas; airways; routes; and reporting points. The purpose of the rule was to facilitate the establishment of RNAV routes in the NAS for use by aircraft with advanced navigation system capabilities.

The Proposal

The FAA is proposing an amendment to Title 14 Code of Federal Regulations (14 CFR) part 71 (part 71) to establish four RNAV IFR Terminal Transition Routes (RITTR) in the Charlotte, NC, terminal area. The routes would be designated T-200, T-201, T-202, and T-203, and would be depicted on the appropriate IFR Enroute Low Altitude charts. RITTR's are low altitude Air Traffic Service routes, similar to VOR Federal airways, but based on GNSS navigation. RNAV-equipped aircraft capable of filing flight plan equipment suffix “/G” may file for these routes.

If implemented, the RITTR routes proposed in this notice would replace the 12 Charlotte IFR Transition Routes that are currently published in the A/FD. Those Transition Routes would then be cancelled and removed from the A/FD.

The RITTR's described in this notice are being proposed to enhance safety, and to facilitate the more flexible and efficient use of the navigable airspace for en route IFR operations transitioning through the Charlotte Class B airspace area.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

RITTR's are low altitude Air Traffic Service routes, comparable to VOR Federal airways, but based on area navigation systems. RITTR's are designed using both existing VOR Federal airways and current radar vector tracks routinely used by ATC to route aircraft through or around the affected terminal area. The FAA determined, therefore, that this action qualifies for a categorical exclusion from further environmental analysis under the National Environmental Policy Act of 1969 in accordance with FAA Order 1050.1E, “Environmental Impacts: Policies and Procedures,” paragraphs 311a, 311b, and 311k.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9M, Airspace Designations and Reporting Points, dated August 30, 2004, and effective September 16, 2004, is amended as follows:

Paragraph 6011—Area Navigation Routes.

* * * * *

T-200 Foothills, GA to Florence, SC [New]
Foothills, GA (ODF) | VORTAC | (Lat. 34°41′45″ N., long. 83°17′52″ W.)
RICHIE | WP | (Lat. 34°41′54″ N., long. 80°59′23″ W.)
Florence, SC (FLO) | VORTAC | (Lat. 34°13′59″ N., long. 79°39′26″ W.)

* * * * *

T-201 Columbia, SC to JOTTA [New]
Columbia, SC (CAE) | VORTAC | (Lat. 33°51′26″ N., long. 81°03′14″ W.)
HUSTN | WP | (Lat. 34°53′20″ N., long. 80°34′20″ W.)
LOCAS | WP | (Lat. 35°12′05″ N., long. 80°26′45″ W.)
JOTTA | WP | (Lat. 36°00′53″ N., long. 80°50′58″ W.)

* * * * *

T-202 RICHE to GANTS [New]
RICHE | WP | (Lat. 34°41′54″ N., long. 80°59′23″ W.)
HUSTN | WP | (Lat. 34°53′20″ N., long. 80°34′20″ W.)
GANTS | WP | (Lat. 35°27′12″ N., long. 80°06′16″ W.)

* * * * *

T-203 Columbia, SC to Pulaski, VA [New]
Columbia, SC (CAE) | VORTAC | (Lat. 33°51′26″ N., long. 81°03′14″ W.)
LOCKS | WP | (Lat. 34°55′40″ N., long. 81°17′37″ W.)
Barretts Mountain, NC (BZM) | VOR/DME | (Lat. 35°52′08″ N., long. 81°14′26″ W.)
Pulaski, VA (PSK) | VORTAC | (Lat. 37°05′16″ N., long. 80°42′46″ W.)

* * * * *

Issued in Washington, DC, on February 22, 2005.
Edith V. Parish,
Acting Manager, Airspace and Rules.

[FR Doc. 05-4138 Filed 3-2-05; 8:45 am]

BILLING CODE 4910-13-P